FEDERAL RETIREMENT THRIFT INVESTMENT BOARD

Sunshine Act Notice

Time and Date: 9 a.m. (EDT), August 15, 2005.

Place: 4th Floor Conference Room, 1250 H Street, NW., Washington, DC.

Status: Open (Telephonic).

Matters to be Considered:

1. Approval of the minutes of the July 18, 2005, Board member meeting.

2. Thrift Savings Plan activity report by the Executive Director.

Contact Person for More Information: Thomas J. Trabucco, Director, Office of External Affairs, (202) 942-1640.

Dated: August 1, 2005.
Elizabeth S. Woodruff,
Secretary to the Board, Federal Retirement Thrift Investment Board.

[FR Doc. 05-15475 Filed 8-1-05; 4:12 pm]

BILLING CODE 6760-01-P